DEPARTMENT OF ENERGY

Federal Energy Regulatory Commission

Combined Notice of Filings #1

Take notice that the Commission received the following electric corporate filings:

Docket Numbers: EC13-93-000.

Applicants: Ameren Energy Generating Company, AmerenEnergy Resources Generating Company, Ameren Energy Marketing Company, Electric Energy, Inc., Midwest Electric Power, Inc., AmerenEnergy Medina Valley Cogen, L.L.C., Dynegy Inc.

Description: Joint Application for Authorization under Section 203 of the Federal Power Act and Request for Expedited Consideration of Ameren Energy Generating Company, et al.

Filed Date: 4/16/13.

Accession Number: 20130416-5219.

Comments Due: 5 p.m. ET 6/17/13.

Docket Numbers: EC13-94-000.

Applicants: NewPage Public Utilities, Franklin Resources, Inc.

Description: Joint Application for Authorization under Section 203 of the Federal Power Act and Request for Expedited Consideration of NewPage Public Utilities, and Franklin Resources, Inc.

Filed Date: 4/16/13.

Accession Number: 20130416-5221.

Comments Due: 5 p.m. ET 5/7/13.

Take notice that the Commission received the following electric rate filings:

Docket Numbers: ER10-2488-005; ER12-1931-002; ER10-2504-003; ER12-610-003; ER12-2627-001; ER13-338-001.

Applicants: Shiloh Wind Project 2, LLC, Pacific Wind Lessee, LLC, Oasis Power Partners, LLC, Catalina Solar, LLC, Shiloh III Lessee, LLC, Shiloh IV Lessee, LLC.

Description: Supplement to December 31, 2012 Triennial Market Power Analysis Update of the EDF Renewable Energy Inc. Southwest Region Companies.

Filed Date: 3/19/13.

Accession Number: 20130319-5069.

Comments Due: 5 p.m. ET 5/9/13.

Docket Numbers: ER10-2794-010; ER10-2849-009; ER11-2028-010; ER12-1825-008.

Applicants: EDF Trading North America, LLC, EDF Industrial Power Services (NY), LLC, EDF Industrial Power Services (IL), LLC, EDF Industrial Power Services (CA), LLC.

Description: Supplement to January 8, 2013 Updated Market Power Analysis for the Southwest Region of EDF Trading North America, LLC, et al.

Filed Date: 3/21/13.

Accession Number: 20130321-5007.

Comments Due: 5 p.m. ET 5/9/13.

Docket Numbers: ER10-2331-019; ER10-2343-019; ER10-2319-018; ER10-2320-018; ER10-2317-017; ER10-2322-019; ER10-2324-018; ER10-2325-017; ER10-2332-018; ER10-2326-019; ER10-2327-020; ER10-2328-018; ER11-4609-017; ER10-2330-019.

Applicants: J.P. Morgan Ventures Energy Corporation, J.P. Morgan Commodities Canada Corporation, BE Alabama LLC, BE Allegheny LLC, BE CA, BE Ironwood LLC, BE KJ LLC, BE Louisiana LLC, BE Rayle LLC, Cedar Brakes I, L.L.C., Cedar Brakes II, L.L.C., Central Power & Lime LLC, Triton Power Michigan LLC, Utility Contract Funding, L.L.C.

Description: JPMorgan Sellers submit Notice of Non-Material Change in Status re: Wildcat I.

Filed Date: 4/16/13.

Accession Number: 20130416-5222.

Comments Due: 5 p.m. ET 5/7/13.

Docket Numbers: ER10-3319-010; ER10-2964-003; ER11-2041-003; ER11-2042-003; ER10-3193-002.

Applicants: Brooklyn Navy Yard Cogeneration Partners, L.P., Astoria Energy II LLC, Selkirk Cogen Partners, L.P., Innovative Energy Systems, LLC, Seneca Energy II, LLC.

Description: Amendment to April 4, 2013 Notification of Non-material Change in Status of the NYISO Affiliates.

Filed Date: 4/17/13.

Accession Number: 20130417-5147.

Comments Due: 5 p.m. ET 5/1/13.

Docket Numbers: ER12-673-001; ER12-672-001; ER10-1908-002; ER10-1909-002; ER10-1910-002; ER10-1911-002; ER10-1533-003; ER10-2374-002; ER12-674-001; ER12-670-001.

Applicants: Brea Generation LLC, Brea Power II, LLC, Duquesne Conemaugh, LLC, Duquesne Keystone, LLC, Duquesne Light Company, Duquesne Power, LLC, Macquarie Energy LLC, Puget Sound Energy, Inc., Rhode Island Engine Genco LLC, Rhode Island LFG Genco, LLC.

Description: Notice of Non-Material Change in Status of Brea Generation LLC, et al.

Filed Date: 4/16/13.

Accession Number: 20130416-5231.

Comments Due: 5 p.m. ET 5/7/13.

Docket Numbers: ER13-629-002.

Applicants: Public Service Company of Colorado.

Description: 2013-04-17-NSP-BNGR-Tran-to Load-542 to be effective 1/1/2013.

Filed Date: 4/17/13.

Accession Number: 20130417-5102.

Comments Due: 5 p.m. ET 5/8/13.

Docket Numbers: ER13-663-002.

Applicants: Public Service Company of Colorado.

Description: 2013-04-16-NSP-MDEU-Tran-to Load-541 to be effective 1/1/2013.

Filed Date: 4/16/13.

Accession Number: 20130416-5211.

Comments Due: 5 p.m. ET 5/7/13.

Docket Numbers: ER13-1085-001.

Applicants: BE Alabama LLC.

Description: Amendment to revision to market-based rate schedule to be effective 4/17/2013.

Filed Date: 4/16/13.

Accession Number: 20130416-5206.

Comments Due: 5 p.m. ET 5/7/13.

Docket Numbers: ER13-1086-001.

Applicants: BE Allegheny LLC.

Description: Amendment to revisions to market-based rate tariff to be effective 4/17/2013.

Filed Date: 4/16/13.

Accession Number: 20130416-5207.

Comments Due: 5 p.m. ET 5/7/13.

Docket Numbers: ER13-1087-001.

Applicants: BE CA LLC.

Description: Amendment to revisions to market-based rate tariff to be effective 4/18/2013.

Filed Date: 4/17/13.

Accession Number: 20130417-5037.

Comments Due: 5 p.m. ET 5/8/13.

Docket Numbers: ER13-1089-001.

Applicants: BE Ironwood LLC.

Description: Amendment to revisions to market-based rate tariff to be effective 4/17/2013.

Filed Date: 4/16/13.

Accession Number: 20130416-5209.

Comments Due: 5 p.m. ET 5/7/13.

Docket Numbers: ER13-1090-001.

Applicants: BE KJ LLC.

Description: Amendment to revisions to market-based rate tariff to be effective 4/18/2013.

Filed Date: 4/17/13.

Accession Number: 20130417-5041.

Comments Due: 5 p.m. ET 5/8/13.

Docket Numbers: ER13-1097-001.

Applicants: Central Power & Lime LLC.

Description: Amendment to revisions to market-based rate tariff to be effective 4/18/2013.

Filed Date: 4/17/13.

Accession Number: 20130417-5044.

Comments Due: 5 p.m. ET 5/8/13.

Docket Numbers: ER13-1098-001.

Applicants: BE Rayle LLC.

Description: Amendment to revisions to market-based rate tariff to be effective 4/18/2013.

Filed Date: 4/17/13.

Accession Number: 20130417-5137.

Comments Due: 5 p.m. ET 5/8/13.

Docket Numbers: ER13-1099-001.

Applicants: Triton Power Michigan LLC.

Description: Amendment to revisions to market-based rate tariff to be effective 4/18/2013.

Filed Date: 4/17/13.

Accession Number: 20130417-5146.

Comments Due: 5 p.m. ET 5/8/13.

Docket Numbers: ER13-1139-001.

Applicants: Imperial Valley Solar 1, LLC.

Description: Supplement to MBR Application to be effective 3/22/2013.

Filed Date: 4/17/13.

Accession Number: 20130417-5181.

Comments Due: 5 p.m. ET 5/8/13.

Docket Numbers: ER13-1296-001.

Applicants: Arizona Public Service Company.

Description: WesConnect Point-to-Point Regional Transmission Service Agreement to be effective 7/1/2013.

Filed Date: 4/16/13.

Accession Number: 20130416-5203.

Comments Due: 5 p.m. ET 5/7/13.

Docket Numbers: ER13-1300-000.

Applicants: Tucson Electric Power Company.

Description: WestConnect Point-to-Point Regional Transmission Tariff to be effective 7/1/2013.

Filed Date: 4/16/13.

Accession Number: 20130416-5200.

Comments Due: 5 p.m. ET 5/7/13.

Docket Numbers: ER13-1301-000.

Applicants: Southwest Power Pool, Inc.

Description: 1313R7 Oklahoma Gas and Electric Company NITSA and NOA to be effective 4/1/2013.

Filed Date: 4/16/13.

Accession Number: 20130416-5208.

Comments Due: 5 p.m. ET 5/7/13.

Docket Numbers: ER13-1302-000.

Applicants: PJM Interconnection, L.L.C.

Description: Queue Position No. V3-015—Original Service Agreement No. 3525 to be effective 4/3/2013.

Filed Date: 4/17/13.

Accession Number: 20130417-5042.

Comments Due: 5 p.m. ET 5/8/13.

Docket Numbers: ER13-1303-000.

Applicants: Utility Bid USA, LLC.

Description: Utility Bid USA, LLC Market Based Rate Tariff to be effective 5/15/2013.

Filed Date: 4/17/13.

Accession Number: 20130417-5149.

Comments Due: 5 p.m. ET 5/8/13.

Take notice that the Commission received the following electric securities filings:

Docket Numbers: ES13-20-000.

Applicants: Southwest Power Pool, Inc.

Description: Application of Southwest Power Pool, Inc. Under Section 204 of the Federal Power Act for an Order Authorizing the Issuance of Securities.

Filed Date: 4/16/13.

Accession Number: 20130416-5220.

Comments Due: 5 p.m. ET 5/7/13.

Docket Numbers: ES13-21-000.

Applicants: DTE Electric Company.

Description: Application of DTE Electric Company for Authorization to Issue Short-term Debt Securities.

Filed Date: 4/17/13.

Accession Number: 20130417-5003.

Comments Due: 5 p.m. ET 5/8/13.

Take notice that the Commission received the following open access transmission tariff filings:

Docket Numbers: OA07-37-006.

Applicants: Louisville Gas & Electric Company, Kentucky Utilities Company.

Description: Louisville Gas and Electric Company, et al. submits annual compliance report on unreserved use and late study penalty assessments and distributions.

Filed Date: 4/17/13.

Accession Number: 20130417-5101.

Comments Due: 5 p.m. ET 5/8/13.

Docket Numbers: OA07-54-011.

Applicants: PacifiCorp.

Description: PacifiCorp's annual informational filing on assessments and distributions of operational penalties.

Filed Date: 04/17/2013.

Accession Number: 20130417-5115.

Comment Date: 5 p.m. ET 5/8/13.

Docket Numbers: OA08-96-007.

Applicants: Southern Company Services, Inc.

Description: Southern Company Services, Inc. submits Report of Penalty Assessments and Distribution in accordance with Orders Nos. 890 and 890-A and Compliance Report.

Filed Date: 04/17/2013.

Accession Number: 20130417-5208.

Comment Date: 5 p.m. ET 5/8/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2013.
Nathaniel J. Davis, Sr.,
Deputy Secretary.

.

[FR Doc. 2013-09969 Filed 4-26-13; 8:45 am].

BILLING CODE 6717-01-P